DEPARTMENT OF COMMERCE

International Trade Administration

[A-570-848]

Freshwater Crawfish Tail Meat From the People's Republic of China: Amended Final Results of Antidumping Duty New Shipper Reviews

AGENCY: Import Administration, International Trade Administration, Department of Commerce.

EFFECTIVE DATE: September 27, 2001.

FOR FURTHER INFORMATION CONTACT: Jacqueline Arrowsmith or Maureen Flannery, AD/CVD Enforcement Group III, Office 7, Import Administration, International Trade Administration, U.S. Department of Commerce, 14th Street and Constitution Avenue, NW., Washington, DC 20230; telephone: (202) 482-4052 or (202) 482-3020, respectively.

Applicable Statute

Unless otherwise indicated, all citations to the statute are references to the provisions effective January 1, 1995, the effective date of the amendments made to the Tariff Act of 1930 (the Act) by the Uruguay Round Agreements Act. In addition, unless otherwise indicated, all citations to the Department's regulations are to the provisions codified at 19 CFR part 351 (2000).

Scope of the Reviews

The product covered by these reviews is freshwater crawfish tail meat, in all its forms (whether washed or with fat on, whether purged or unpurged), grades, and sizes; whether frozen, fresh, or chilled; and regardless of how it is packed, preserved, or prepared. Excluded from the scope of the order are live crawfish and other whole crawfish, whether boiled, frozen, fresh, or chilled. Also excluded are saltwater crawfish of any type, and parts thereof. Freshwater crawfish tail meat is currently classifiable in the Harmonized Tariff Schedule of the United States (HTS) under item numbers 1605.40.10.10, 0306.19.00.10 and 0306.29.00.00. The HTS subheadings are provided for convenience and Customs purposes only. The written description of the scope of this order is dispositive.

Amendment of Final Results

On August 27, 2001, the Department of Commerce (the Department) published the final results of its antidumping new shipper reviews on freshwater crawfish tail meat (crawfish tail meat) from the People's Republic of China (PRC). Final Results of Antidumping Duty New Shipper Reviews: Freshwater Crawfish Tail Meat from the People's Republic of China 66 FR 45002 (August 27, 2001). The companies covered by these new shipper reviews are China Kingdom Import & Export Co., Ltd. (China Kingdom), Nantong Shengfa Frozen Food Co., Ltd. (Nantong Shengfa), and Weishan Fukang Frozen Foodstuffs Co., Ltd. (Weishan Fukang). The period of review (POR) is September 1, 1999 through March 31, 2000.

On August 29, 2001, we received a submission from petitioner alleging ministerial errors in the final results of these new shipper reviews. The allegation was timely filed pursuant to section 351.224(c)(2) of the Department's regulations. We did not receive any submissions alleging ministerial errors in the final results of these new shipper reviews from China Kingdom, Nantong Shengfa, or Weishan Fukang.

Comment 1: Application of Wet-to-Dry Conversion Factor.

Petitioner argues that the Department made a ministerial error in its application of the wet-dry conversion for the crawfish scrap credit to the raw crawfish input used in the calculation of normal value based on factors of production. Petitioner explains that 70% of the weight of crawfish scrap is water and argues that, therefore, to convert the dry-weight price to an equivalent wet-weight price, the Department must multiply the dry-weight price by 30 percent. Petitioner notes that in its narrative, the Department explained that it was adjusting the amount of scrap reported by the respondents by 30 percent to account for its wet condition. Petitioner states that the Department made an error in its calculations by multiplying the dry-weight surrogate price by 70 percent.

Department's Position: We agree with petitioner. We should have multiplied the dry-weight price by 30 percent as detailed in petitioner's comments on ministerial errors. We are making this correction for these amended final results.

Comment 2: HTS Numbers.

Petitioner argues that the description of the tariff classifications of subject merchandise in the “Scope of Reviews” section that the Department used in the preliminary and final results of these new shipper reviews contains several errors, omissions, and other inaccuracies which could confuse or mislead the U.S. Customs Service or market participants. Preliminary Results of New Shipper Reviews and Rescission of a New Shipper Review: Freshwater Crawfish Tail Meat from the People's Republic of China 66 FR 18604 (April 10, 2001) (Preliminary Results) and Final Results of Antidumping Duty New Shipper Reviews: Freshwater Crawfish Tail Meat from the People's Republic of China 66 FR 45002 (August 27, 2001) (Final Results). Petitioner states that HTS item number 1605.40.10.10 provides the most specific category for freshwater crawfish tail meat. Petitioner also states that HTS item number 1605.40.10.90, which was listed in the preliminary and final results, applies to various prepared or preserved crustacean products other than freshwater crawfish tail meat. See Preliminary Results; see also Final Results. Petitioner concludes its comments by providing suggested language for the scope of these reviews, which excludes the HTS item number 1605.40.10.90.

Petitioner further argues that the Department's description does not identify all classifications that may be expected to have been used from September 1, 1999 through March 31, 2000, which is the period of review (POR). Petitioner notes that the POR precedes the promulgation date of the new HTS item numbers, 1605.40.1010 and 1605.40.1090, which occurred in mid-2000. Petitioner further states that subject merchandise may have entered under HTS item number 1605.40.1000 during the POR, because it was prior to the introduction of these two new HTS item numbers.

Petitioner requests that the HTS item numbers listed in the Department's scope description identify all of the HTS item numbers under which subject merchandise is “reasonably believed to have been entered during the POI, and all of the HTS item numbers under which subject merchandise can reasonably be expected to enter in the future, regardless whether such classifications were or are proper.” Petitioner argues that the Department's description should not create a false impression that Chapters 3 and 16 currently provide equally correct classifications of subject merchandise. Petitioner states that the Department's description should be neutral with respect to this question.

Department's Position: We agree in part with petitioner. We have corrected the description of the scope of these amended final results to omit the reference to HTS item number 1605.40.10.90. As published in the Federal Register notices, the HTS subheadings are provided for convenience and Customs purposes only. The written description of the scope of this order is dispositive.

Amended Final Results of Administrative Review

In making the above corrections for these amended final results, we found transcription errors in China Kingdom's calculations. We are correcting these errors for these amended final results. See Analysis for the Amended Final Results of the Antidumping Duty New Shipper Review of Freshwater Crawfish Tail Meat from the People's Republic of China: China Kingdom Import & Export Co., Ltd. and American Coast Processing Enterprises Corp. (China Kingdom), dated August 20, 2001.

As a result of our review and the correction of the ministerial transcription errors described above, we have determined that the following margins exist:

Manufacturer/exporter | Margin (percent)
China Kingdom | 77.30
Nantong Shengfa | 21.85
Weishan Fukang | 20.16

The Department shall determine, and the U.S. Customs Service (Customs) shall assess, antidumping duties on all appropriate entries. In accordance with 19 CFR 351.212(b), we will instruct Customs to assess an importer-specific percentage margin against the entered Customs values for the subject merchandise on each of that importer's entries during the review period.

Furthermore, the following deposit requirements will be effective upon publication of this notice of amended final results of antidumping new shipper reviews for all shipments of freshwater crawfish tail meat from the PRC entered, or withdrawn from warehouse, for consumption on or after the date of publication, as provided by section 751(a)(2)(C) of the Act: (1) The cash deposit rates for the reviewed companies will be the rates shown above except that, for firms whose weighted-average margins are less than 0.5 percent and therefore de minimis, the Department shall require no deposit of estimated antidumping duties; (2) for previously-reviewed PRC and non-PRC exporters with separate rates, the cash deposit rate will be the company-specific rate established for the most recent period; (3) for all other PRC exporters, the cash deposit rate will be the PRC-wide rate, 201.63 percent; and (4) for all other non-PRC exporters of the subject merchandise, the cash deposit rate will be the rate applicable to the PRC supplier of that exporter. These deposit requirements shall remain in effect until publication of the final results of the next administrative review.

This notice also serves as a final reminder to importers of their responsibility under 19 CFR 351.402(f)(2) to file a certificate regarding the reimbursement of antidumping duties prior to liquidation of the relevant entries during this review period. Failure to comply with this requirement could result in the Secretary's presumption that reimbursement of antidumping duties occurred and in the subsequent assessment of doubled antidumping duties.

This notice also serves as the only reminder to parties subject to administrative protective orders (APO) of their responsibility concerning the return or destruction of proprietary information disclosed under APO in accordance with section 351.305 of the Department's regulations. Timely written notification of the return or destruction of APO materials is hereby requested. Failure to comply with the regulations and terms of an APO is a sanctionable violation.

These new shipper reviews and notice are in accordance with sections 751(a)(2)(B) and 777(i)(1) of the Act.

Dated: September 24, 2001.
Faryar Shirzad,
Assistant Secretary for Import Administration.

[FR Doc. 01-24410 Filed 9-26-01; 8:45 am]

BILLING CODE 3510-DS-P